FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16159F.

Name: American Pioneer Shipping L.L.C.

Address: 33 Wood Avenue, South, Suite 600, Iselin, NJ 08830.

Date Revoked: February 2, 2002.

Reason: Failed to maintain a valid bond.

License Number: 3961.

Name: Ford Freight Forwarders, Inc.

Address: 8081 NW 67th Street, Miami, FL 33166.

Date Revoked: May 25, 2002.

Reason: Failed to maintain a valid bond.

License Number: 15965N.

Name: Global Cargo U.S.A. Inc.

Address: 7500 W 18th Lane, Hialeah, FL 33014.

Date Revoked: April 27, 2002.

Reason: Failed to maintain a valid bond.

License Number: 1988N.

Name: HEG International Freight Forwarders, Inc.

Address: 5855 Naples Plaza, Suite 2, Long Beach, CA 90803.

Date Revoked: June 8, 2002.

Reason: Failed to maintain a valid bond.

License Number: 15471N.

Name: Navicargo, Inc.

Address: 8325 NW. 55th Street, Suite 103, Miami, FL 33166.

Date Revoked: May 25, 2002.

Reason: Failed to maintain a valid bond.

License Number: 3177NF

Name: Pacific Freight, Inc.

Address: 2420 W. Carson Street, Suite #200, Torrance, CA 90501.

Date Revoked: June 13, 2002.

Reason: Surrendered license voluntarily.

Sandra L. Kusumoto,
Director, Bureau of Consumer Complaints and Licensing.

[FR Doc. 02-18751 Filed 7-24-02; 8:45 am]

BILLING CODE 6730-01-P